DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by April 15, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: Stephen P. Baughman, Friendswood, TX, PRT-082555.

The applicant requests a permit to import the sport-hunted trophy of one male bontebok (Damaliscus pygargus dorcas) culled from a captive herd maintained under the management program of the Republic of South Africa, for the purpose of enhancement of the survival of the species.

Applicant: Kay Rosaire, Sarasota, FL, PRT-083145-083156.

The applicant requests permits to export captive-born tigers (Panthera tigris) to world wide locations for the purpose of enhancement of the species through conservation education. The permit numbers and animals are: [083145, Czar; 083146, Sandy; 083147, Tyler; 083148, Samson; 083149, Nakita; 083150, Noelle; 083151, Blue; 083152, Niobu; 083153, Goliath; 083154, Menilick; 083155, Conan; 083156, Kira]. This notification covers activities to be conducted by the applicant over a three-year period and the import of any potential progeny born while overseas.

Applicant: Oklahoma Museum of Natural History, University of Oklahoma, Norman, OK, PRT-075249.

The applicant requests a permit to export and re-import non-living museum specimens of endangered and threatened species of animals (excluding bald eagles) previously accessioned into the applicant's collection for scientific research. This notification covers activities to be conducted by the applicant over a five-year period.

Dated: February 20, 2004.
Charles S. Hamilton,
Senior Permit Biologist, Branch of Permits, Division of Management Authority.

[FR Doc. 04-5836 Filed 3-15-04; 8:45 am]

BILLING CODE 4310-55-P